ENVIRONMENTAL PROTECTION AGENCY

[FRL-7219-4]

Agency Information Collection Activities: Submission for OMB Review; Comment Request; Synthetic Organic Chemical Manufacturing Industry (SOCMI): Consolidation of Information Collection Requests (ICRs)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Synthetic Organic Chemical Manufacturing Industry (SOCMI): Consolidation of Information Collection Requests (ICRs); OMB Control Number 2060-0443 expiring January 31, 2004. The ICR describes the nature of the information collection and its expected burden and cost; where appropriate, it includes the actual data collection instrument.

DATES: Comments must be submitted on or before June 28, 2002.

ADDRESSES: Send comments, referencing EPA ICR Number 1854.03 and OMB Control Number 2060-0443, to the following addresses: Susan Auby, U.S. Environmental Protection Agency, Collection Strategies Division (Mail Code 2822T), 1200 Pennsylvania Avenue, NW., Washington, DC 20460; and to the Office of Information and Regulatory Affairs, Office of Management and Budget (OMB), Attention: Desk Officer for EPA, 725 17th Street, NW.,Washington, DC 20503.

FOR FURTHER INFORMATION: For a copy of the ICR, contact Susan Auby of EPA, by phone at: (202) 566-1672, by E-mail at: auby.susan@epa.gov, or download off the Internet at: http://www.epa.gov/icr, and refer to EPA ICR Number 1854.03. For technical questions about the ICR, contact: Marcia Mia of EPA, by phone at: (202) 564-7042, or by E-mail at: mia.marcia@epa.gov.

SUPPLEMENTARY INFORMATION: Title: Synthetic Organic Chemical Manufacturing Industry (SOCMI): Consolidation of Information Collection Requests (ICRs); EPA ICR Number 1854.03; OMB Control Number 2060-0443 expiring January 31, 2004. This is a revision to a previously approved collection.

Abstract: This ICR contains a consolidation of recordkeeping and reporting requirements that are mandatory for compliance with the applicable subparts listed below at 40 CFR parts 60, 61, 63 and 65. The consolidated Federal Air Rule (CAR) is an optional alternative compliance strategy for plant sites that must comply with the existing subparts in the Code of Federal Regulations (CFR). This ICR also consolidates major portions of 14 different New Source Performance Standards (NSPS), National Emission Standards for Hazardous Air Pollutants (NESHAP), and Maximum Achievable Control Technology (MACT) pertaining to storage vessels, process vents, transfer racks and equipment leaks, as well as the general provisions in the three applicable parts (60, 61, and 63). The referencing subparts include: 40 CFR part 60, subpart Ka; 40 CFR part 60, subpart Kb; 40 CFR part 60, subpart VV; 40 CFR part 60, subpart DDD; 40 CFR part 60, subpart III; 40 CFR part 60, subpart NNN; 40 CFR part 60, subpart RRR; 40 CFR part 61, subpart BB; 40 CFR part 61, subpart Y; 40 CFR part 61, subpart V; 40 CFR part 63, subpart F; 40 CFR part 63, subpart G; 40 CFR part 63, subpart H; and 40 CFR part 63, subpart I.

Compliance with the CAR is a voluntary alternative; sources may continue to comply with existing applicable rules or may choose to comply with the consolidated rule. The CAR, therefore, does not constitute additional requirements, per se. Rather, the recordkeeping and reporting requirements in the CAR would be carried out in lieu of the existing requirements. This revised ICR creates a consolidated ICR, consisting of the CAR and its referencing subparts burden; it shows the sum of all of the burden hours for the CAR and its referencing subparts based upon the most recently approved collections for the ICRs. When an individual ICR is renewed, appropriate changes will be made to the CAR, and vice versa. This avoids updating every time a referencing subpart is renewed to account for the percentage of sources that opt to comply with it. Similarly, when the CAR is renewed, updating each of the referencing subparts is unnecessary.

An agency may not conduct or sponsor, and a person is not required to respond to a collection of information unless it displays a currently valid OMB control number. The OMB control numbers for EPA's regulations are listed in 40 CFR part 9 and 48 CFR Chapter 15. The Federal Register document required under 5 CFR 1320.8(d), soliciting comments on this collection of information was published on February 1, 2001 (66 FR 8588); no comments were received. Burden Statement: The annual public reporting and record keeping burden for this collection of information is estimated to average 209 hours per response. Burden means the total time, effort, or financial resources expended by persons to generate, maintain, retain, disclose, or provide information to or for a Federal agency. This includes the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers in the Synthetic Organic Chemical Manufacturing Industry.

Estimated Number of Respondents: 3,862.

Estimated Number of Annual Responses: 10,361.

Frequency of Response: Semiannually and on occasion.

Estimated Total Annual Hour Burden: 2,165,600 hours.

Estimated Total Annualized Capital, O&M Cost Burden: $99,921,000.

Send comments on the Agency's need for this information, the accuracy of the provided burden estimates, and any suggested methods for minimizing respondent burden, including through the use of automated collection techniques to the addresses listed above. Please refer to EPA ICR Number 1854.03 and OMB Control Number 2060-0443 in any correspondence.

Dated: May 21, 2002.
Oscar Morales,
Director, Collection Strategies Division.

[FR Doc. 02-13349 Filed 5-28-02; 8:45 am]

BILLING CODE 6560-50-P